DEPARTMENT OF VETERANS AFFAIRS

Advisory Committee: National Academic Affiliations Council, Notice of Meeting

The Department of Veterans Affairs (VA) gives notice under the Federal Advisory Committee Act, 5 U.S.C. ch. 10, that a meeting of VA's National Academic Affiliations Council (Council) will be held September 27, 2023-September 28, 2023. The meetings will begin and end as follows:

Public participation will commence as follows:

Date | Time | Location | Open session
September 27, 2023 | 9:00 a.m. to 4:00 p.m. Central Standard Time (CST) | Ernest Childers VA Outpatient Clinic, 8921 South Mingo Road, Tulsa, OK, 74133-5841 | Yes.
September 28, 2023 | 9:30 a.m. to 2:15 p.m. CST | Ernest Childers VA Outpatient Clinic, 8921 South Mingo Road, Tulsa, OK, 74133-5841 | No.

Sessions are open to the public, except when the Council is conducting tours of VA facilities. Tours of VA facilities are closed to protect Veterans' privacy and personal information, by 5 U.S.C. 552b(c)(6).

The purpose of the Council is to advise the Secretary on matters affecting partnerships between VA and its academic affiliates.

On September 27, 2023, the Council will convene an open session and receive presentations and updates. The morning agenda will include a presentation from Oklahoma VA on Academic Relationships and Accomplishments, a presentation and update of Communities Helping Invest through Property and Improvements Needed for Veterans Act, discussions with the Tribal Advisory Committee and Office of Tribal and Government relations, and a comprehensive MISSON ACT Section 403 presentation. In the afternoon, the Council will continue discussions with VA leadership including a panel discussion with Oklahoma VA trainees as it relates to diversity and rural health, and will receive updates from the Strategic Academic Advisory Council (SAAC). The Council will receive public comments from 3:40 p.m. to 4:00p.m. CST. The meeting will adjourn day one at 4:00 p.m. CST.

On September 28, 2023, at 9:30 a.m. CST, the Council will reconvene for day two. Day two of the meeting will be closed to the public, as the council will tour Indian Health Service (IHS) medical facilities. Tours of medical facilities are closed to protect privacy and personal information, in accordance with 5 U.S.C. 552b(c)(6). The meeting will adjourn at 2:15 p.m. CST.

Interested persons may attend and present oral statements to the Council on day 1 during the public comment period. A sign-in sheet for those who want to give comments will be available at the meeting. Individuals who speak are invited to submit a 1-2-page summary of their comments at the time of the meeting for inclusion in the official meeting record. Oral presentations will be limited to three to five minutes, depending on the number of participants. Interested parties may also provide written comments for review by the Council prior to the meeting, or at any time via email to nellie.mitchell@va.gov.

Any member of the public seeking additional information should contact Ms. Mitchell via email or by phone at (608) 358-9902. Because the meeting will be held in a government building, anyone attending must be prepared to submit to security screening and present a valid photo I.D. Please allow at least 30 minutes prior to the meeting for this process.

Dated: August 22, 2023.
Jelessa M. Burney,
Federal Advisory Committee Management Officer.

[FR Doc. 2023-18412 Filed 8-25-23; 8:45 am]

BILLING CODE P